DEPARTMENT OF THE INTERIOR

National Park Service

[NPS-WASO-NRNHL-DTS#-38857; PPWOCRADI0, PCU00RP14.R50000]

National Register of Historic Places; Notification of Pending Nominations and Related Actions

AGENCY: National Park Service, Interior.

ACTION: Notice.

SUMMARY: The National Park Service is soliciting electronic comments on the significance of properties nominated before September 28, 2024, for listing or related actions in the National Register of Historic Places.

DATES: Comments should be submitted electronically by October 23, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 28, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

Connecticut

Fairfield County

Dr. Harvey and Rhoda Wasserman House, (Mid-Twentieth-Century Modern Residences in Connecticut 1930-1979, MPS), 23 Huckleberry Lane, Weston, MP100010945

Morris and Rose Greenwald House, (Mid-Twentieth-Century Modern Residences in Connecticut 1930-1979, MPS), 11 Homeward Lane, Weston, MP100010953

Massachusetts

Essex County

Haverhill Powder House, 91 Powder House Avenue, Haverhill, SG100010944

Suffolk County

Dixwell Street Apartments Historic District, 12-14, 18-20 Dixwell Street; 1989-1991 Columbus Avenue, 7-9 Dixwell Street, 11-13 Dixwell Street, 17 Dixwell Street, 21-23 Dixwell Street, Boston, SG100010939

Hyde Park High School, 15 Everett Street, Boston, SG100010943

Worcester County

North Village Cemetery, Otis Street, Lancaster, SG100010942

Nebraska

Adams County

Hastings Masonic Temple, 411 North Hastings Avenue, Hastings, SG100010947

Buffalo County

Shelton Public Library, (Carnegie Libraries in Nebraska MPS), 313 C St., Shelton, MP100010940

Douglas County

First National Center, 1620 Dodge Street, Omaha, SG100010948

Nevada

Clark County

LULAC Multi-Purpose Senior Center, 330 N 13th Street, Las Vegas, SG100010949

Washoe County

Black Springs Volunteer Firehouse, (Fire Stations of Nevada MPS), West termination of Coretta Way at Kennedy Drive, Reno, MP100010950

Texas

Harris County

River Oaks Theatre, 2050 West Gray Street, Houston, SG100010951

Additional documentation has been received for the following resource(s):

North Carolina

Alamance County

Downtown Burlington Historic District (Additional Documentation), Roughly bounded by Morehead, S. Main, Davis, S. Worth, E. Webb and Spring Sts., Burlington, AD90001320

Authority: Section 60.13 of 36 CFR part 60.

Sherry A. Frear,
Chief, National Register of Historic Places/National Historic Landmarks Program.

[FR Doc. 2024-23215 Filed 10-7-24; 8:45 am]

BILLING CODE 4312-52-P